DEPARTMENT OF COMMERCE

International Trade Administration

[A-570-601]

Notice of Postponement of Final Results of 2001-2002 Administrative Review: Tapered Roller Bearings and Parts Thereof, Finished and Unfinished, From the People's Republic of China

AGENCY: Import Administration, International Trade Administration, Department of Commerce.

EFFECTIVE DATE: July 21, 2003.

FOR FURTHER INFORMATION CONTACT: Anthony Grasso at (202) 482-3853 or Andrew Smith at 202-482-1276, Import Administration, International Trade Administration, U.S. Department of Commerce, 14th Street and Constitution Avenue, NW., Washington, DC 20230.

Statutory Time Limits

Section 751(a)(3)(A) of the Tariff Act of 1930, as amended (“the Act”), requires the Department to issue the preliminary results of an administrative review within 245 days after the last day of the anniversary month of an order for which a review is requested and a final determination within 120 days after the date on which the preliminary results are published. However, if it is not practicable to complete the review within the time period, section 751(a)(3)(A) of the Act allows the Department to extend these deadlines to a maximum of 365 days and 180 days, respectively. Further, the Department may extend the time for making a final determination without extending the time for making a preliminary determination, if such final determination is made not later than 300 days after the date on which the preliminary determination is published.

Postponement of Final Results

On July 24, 2002, the Department published a notice of initiation of administrative review of the antidumping duty order on tapered roller bearings and parts thereof, finished and unfinished, from the People's Republic of China, covering the period June 1, 2001 to May 31, 2002 (67 FR 48435). On February 14, 2003, the Department published the preliminary results and partial rescission of this administrative review of TRBs from the PRC. See Tapered Roller Bearings and Parts Thereof, Finished and Unfinished, From the People's Republic of China: Preliminary Results of 2000-2001 Administrative Review and Partial Rescission of Review, 68 FR 7500 (February 14, 2003) (“Preliminary Results”). In the Preliminary Results we stated that we would make our final determination for the antidumping duty investigation no later than 120 days after the date of publication of the preliminary results (i.e., June 14, 2003). On June 12, 2003, we extended the time limit for completion of the final results to not later than July 16, 2003 in accordance with section 751(a)(3)(A) of the Act.

Due to the complexity of the issues, the Department concludes that these reviews are extraordinarily complicated. See Memorandum from Team to Jeffrey May, “Extension of Time Limit for Final Results,” dated, July 16, 2003. Therefore, the Department is extending the time limit for completion of these final results to not later than December 11, 2003, in accordance with section 751(a)(3)(A) of the Act.

This extension is in accordance with section 751(a)(3)(A) and 777(i)(1) of the Act.

Dated: July 15, 2003.
Jeffrey May,
Deputy Assistant Secretary for Import Administration.

[FR Doc. 03-18471 Filed 7-18-03; 8:45 am]

BILLING CODE 3510-DS-P